DEPARTMENT OF ENERGY

Federal Energy Regulatory Commission

Combined Notice of Filings #2

Take notice that the Commission received the following electric rate filings:

Docket Numbers: ER17-1345-000.

Applicants: Southern California Edison Company.

Description: § 205(d) Rate Filing: 2017 TACBAA Update to be effective 6/1/2017.

Filed Date: 3/30/17.

Accession Number: 20170330-5140.

Comments Due: 5 p.m. ET 4/20/17.

Docket Numbers: ER17-1346-000.

Applicants: Mid-Atlantic Interstate Transmission, LLC, Pennsylvania Electric Company, PJM Interconnection, L.L.C.

Description: § 205(d) Rate Filing: MAIT submits Service Agreement No. 4665 btwn Penelec, MAIT and Borough of Berlin to be effective 2/24/2017.

Filed Date: 3/30/17.

Accession Number: 20170330-5236.

Comments Due: 5 p.m. ET 4/20/17.

Docket Numbers: ER17-1347-000.

Applicants: PacifiCorp.

Description: § 205(d) Rate Filing: OATT Revised Attachment H-1 (Rev Depreciation Rates 2017) to be effective 6/1/2017.

Filed Date: 3/30/17.

Accession Number: 20170330-5262.

Comments Due: 5 p.m. ET 4/20/17.

Docket Numbers: ER17-1348-000.

Applicants: J.P. Morgan Ventures Energy Corporation.

Description: § 205(d) Rate Filing: Cancellation of cost-based rates tariffs to be effective 3/31/2017.

Filed Date: 3/30/17.

Accession Number: 20170330-5277.

Comments Due: 5 p.m. ET 4/20/17.

Docket Numbers: ER17-1349-000.

Applicants: Central Hudson Gas & Electric Corporation.

Description: § 205(d) Rate Filing: Revisions to FERC Rate Schedule 202 to be effective 3/16/2017.

Filed Date: 3/30/17.

Accession Number: 20170330-5278.

Comments Due: 5 p.m. ET 4/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2017.
Kimberly D. Bose,
Secretary.

[FR Doc. 2017-06840 Filed 4-5-17; 8:45 am]

BILLING CODE 6717-01-P